DEPARTMENT OF HEALTH AND HUMAN SERVICES

Centers for Disease Control and Prevention

[60-Day-11-0794]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Carol E. Walker, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Transgender HIV Behavioral Survey (THBS) (0920-0794 exp. 12/31/2010)—Reinstatement with change—National Center for HIV, Hepatitis, STD, and TB Prevention (NCHHSTP), Centers for Disease Control and Prevention (CDC).

Background and Brief Description

Transgender persons, who were born male (male-to-female) are considered to be a high risk group for acquiring Human Immunodeficiency Virus (HIV) infection. The National HIV/AIDS Strategy for the United States calls for reducing new infections, in part, by intensifying HIV prevention efforts in communities where HIV is most heavily concentrated. The strategy also calls for state and local health departments as well as federal agencies to monitor progress towards the strategy's goal. This project addresses national goals by providing a mechanism for describing and monitoring the HIV risk behaviors and HIV prevention experiences of transgender persons.

The Centers for Disease Control and Prevention request approval for a 3-year reinstatement with change of the previously approved Transgender HIV Behavioral Survey (THBS)—(OMB No. 0920-0794, expires December 31, 2010). The previously approved project was a pilot. The purpose of this request is to conduct a behavioral survey among male-to-female transgender persons to assess prevalence of and trends in: (1) Risk behaviors for HIV infection, (2) HIV testing behaviors, and (3) exposure to, use of, and impact of HIV prevention services. The results of this data collection will be used to assess progress toward CDC's goals to increase the proportion of people who consistently engage in behaviors that reduce risk of HIV transmission or acquisition; and to monitor behaviors that increase the risk of HIV infection (among those who are not infected).

For the proposed data collection, the questionnaire used for the previously approved pilot has been shortened and a recruiter debriefing instrument has been added. The project activities and methods will remain the same as those used in the previously approved pilot.

Data will be collected through in-person, computer-assisted interviews conducted by trained interviewers in 5 Metropolitan Statistical Areas (MSA) or MSA Divisions in the United States. The MSAs chosen will be among those currently participating in the National HIV Behavioral Surveillance system (see Federal Register dated January 19, 2007: Vol. 72, No. 12, pages 2529-2530).

Respondent Driven Sampling (RDS) will be used to recruit participants. Except for a few initial (“seed”) recruits, persons will be recruited by peers for participation in THBS. A screener questionnaire will be used to determine eligibility for participation. In one year, approximately 1,100 individuals will be approached and screened (through a 5-minute interview) for eligibility to participate. Approximately 1,000 individuals are expected to be eligible and participate in the 40-minute behavioral assessment interview each year. After the interview, the interviewer will train the respondent to recruit up to five of her peers. When she returns to the field site, she will be debriefed using a computer-assisted, interviewer-administered recruiter debriefing instrument. Approximately 600 peer recruiters are expected to participate as peer recruiters, about 500 of whom will return to be debriefed through a 2-minute interview. Participation of respondents is voluntary and there is no cost to the respondents other than their time.

Estimated Annualized Burden Hours
Type of respondent | Form name | Number of respondents | Number of responses per respondent | Average burden per response (in hours) | Total burden hours
Persons Referred by Peer Recruiters | Screener | 1,100 | 1 | 5/60 | 92
Eligible Transgender Persons | Behavioral assessment | 1,000 | 1 | 40/60 | 667
Peer Recruiters | Recruiter Debriefing | 500 | 1 | 2/60 | 17
Total |  |  |  |  | 776

Dated: October 27, 2010.
Carol E. Walker,
Acting Reports Clearance Officer, Centers for Disease Control and Prevention.

[FR Doc. 2010-27603 Filed 11-1-10; 8:45 am]

BILLING CODE 4163-18-P